DEPARTMENT OF ENERGY

Senior Executive Service; Performance Review Board Chair

AGENCY: U.S. Department of Energy.

ACTION: SES Performance Review Board Chair.

SUMMARY: This notice provides as the designation of Sarah J. Bonilla as the Performance Review Board Chair for the Department of Energy. This listing supersedes all previously published lists of the PRB Chair.

DATES: This appointment is effective as of September 22, 2008.

Sarah J. Bonilla,
Director, Office of Human Capital Management.

[FR Doc. E8-25157 Filed 10-21-08; 8:45 am]

BILLING CODE 6450-01-P